DEPARTMENT OF AGRICULTURE

Forest Service

Notice of Madison-Beaverhead Advisory Committee Meeting

AGENCY: Forest Service, USDA

ACTION: Notice of meeting.

SUMMARY: Pursuant to the authorities in the Federal Advisory Committee Act (Pub. L. 92-463) and under the Secure Rural Schools and Community Self-Determination Act of 2000 (Pub. L. 106-393, as amended by Section 5401 of Public Law 110-28, the U.S. Troop Readiness, Veterans' Care, Katrina Recovery, and Iraq Accountability Appropriations Act of 2007) the Beaverhead-Deerlodge National Forest's Madison-Beaverhead Resource Advisory Committee will meet on Wednesday, September 19, 2007, from 10 a.m. to 4 p.m., in Dillon, Montana, for a business meeting. The meeting is open to the public.

DATES: Wednesday, September 19, 2007.

ADDRESSES: The meeting will be held at the USDA Service Center, 420 Barrett Street, Dillon, Montana.

FOR FURTHER INFORMATION CONTACT: Bruce Ramsey, Designated Forest Official (DFO), Forest Supervisor, Beaverhead-Deerlodge National Forest, at (406) 683-3973.

SUPPLEMENTARY INFORMATION: Agenda topics for this meeting include making decisions on projects to fund under Title II of Public Law 106-393, and other business. If the meeting location changes, notice will be posted in local newspapers, including the Dillon Tribune and The Montana Standard.

Dated: August 28, 2007.
Bruce Ramsey,
Forest Supervisor.

[FR Doc. 07-4305 Filed 8-31-07; 8:45 am]

BILLING CODE 3410-11-M